DEPARTMENT OF EDUCATION

[Docket No.: ED-2015-ICCD-0088]

Agency Information Collection Activities; Submission to the Office of Management and Budget for Review and Approval; Comment Request; Fast Response Survey System (FRSS) 107: Programs and Services for High School English Learners 2015

AGENCY: IES/National Center For Education Statistics, Department of Education (ED).

ACTION: Notice.

SUMMARY: In accordance with the Paperwork Reduction Act of 1995 (44 U.S.C. chapter 3501 et seq.), ED is proposing a revision of an existing information collection.

DATES: Interested persons are invited to submit comments on or before August 7, 2015.

ADDRESSES: Comments submitted in response to this notice should be submitted electronically through the Federal eRulemaking Portal at http://www.regulations.gov by selecting Docket ID number ED-2015-ICCD-0088 via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E103, Washington, DC 20202.

FOR FURTHER INFORMATION CONTACT: For specific questions related to collection activities, please contact Kashka Kubzdela, 202-502-7411.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Fast Response Survey System (FRSS) 107: Programs and Services for High School English Learners 2015.

OMB Control Number: 1850-0733.

Type of Review: A revision of an existing information collection.

Respondents/Affected Public: School Districts (local government).

Total Estimated Number of Annual Responses: 1,700.

Total Estimated Number of Annual Burden Hours: 4,520.

Abstract: The Fast Response Survey System (FRSS) and the Postsecondary Education Quick Information System (PEQIS) collect issue-oriented data quickly and with minimum response burden outside of NCES' large recurring surveys. Both systems were designed to collect and report data on key education issues at the elementary and secondary levels, and to meet the data needs of Department of Education analysts, planners, and decision-makers when information cannot be collected quickly through NCES's large recurring surveys. The purpose of the FRSS 107 survey is to collect, beginning in September 2015, the first nationally representative data from school districts on programs and services designed to serve high school English Learners (ELs). Topics include instructional programs/approaches provided for high school ELs, the presence and characteristics of newcomer programs, use of online or computer-based programs to address the needs of English learners, participation of high school ELs in various district programs and services (e.g., summer school, tutoring, career and technical training), presence of programs or services designed specifically for ELs in high school, materials and services that the district has available in native languages for high school ELs and their parents/guardians, use of native language for content instruction and for instructional support, information about types of educational programs or services that the district provides to ELs ages 18 to 21 seeking to newly enroll in the district, and the extent to which the district considers various factors (e.g., English proficiency level, literacy in native language) when providing information about educational programs or services available to ELs ages 18 to 21 who are seeking to newly enroll in the district.

Dated: July 1, 2015.
Stephanie Valentine,
Acting Director, Information Collection Clearance Division, Office of the Chief Privacy Officer, Office of Management.

[FR Doc. 2015-16660 Filed 7-7-15; 8:45 am]

BILLING CODE 4000-01-P